DEPARTMENT OF ENERGY

Federal Energy Regulatory Commission

[Docket No. ER18-1639-000]

Constellation Mystic Power, LLC; Notice of Designation of Commission Staff as Non-Decisional

With respect to an order issued by the Commission on July 13, 2018 in the above-captioned docket,¹ with the exceptions noted below, the staff of the Office of Administrative Litigation are designated as non-decisional in deliberations by the Commission in this docket. Accordingly, pursuant to 18 CFR 385.2202 (2017), these non-decisional staff will not serve as advisors to the Commission or take part in the Commission's review of any future filings in the above-referenced docket, including offers of settlement or settlement agreements. Likewise, as non-decisional staff, pursuant to 18 CFR 385.2201 (2017), they are prohibited from communicating with advisory staff concerning any deliberations in this docket.

¹ Constellation Mystic Power, LLC, 164 FERC ¶ 61,022 (2018).

Exceptions to this designation as non-decisional are:

Daniel Poffenberger

Joseph Hoffman

Dated: July 16, 2018.
Kimberly D. Bose,
Secretary.

[FR Doc. 2018-15557 Filed 7-19-18; 8:45 am]

BILLING CODE 6717-01-P